ENVIRONMENTAL PROTECTION AGENCY

[FRL-6927-8]

Financial Assistance for an Environmental Professional Intern Program

AGENCY: Environmental Protection Agency.

ACTION: Notice.

SUMMARY: The U.S. Environmental Protection Agency (US EPA) announces the availability of Federal Assistance to conduct an intern program to provide on the job training for students interested in careers in environmental protection. The need for wise stewardship of the nation's environmental resources is increasing and with it a need to enlarge the pool of skilled environmental professionals and at the same time increase the diversity of this pool. EPA recognizes that there is a shortage of skilled environmental professionals. The programmatic objective of this intern program is to provide unique opportunities for cooperative study, research, and development that would increase the number and diversity of skilled engineers, scientists, policy makers, legal professionals, and managers in the environmental arena by affording “on the job training” opportunities for students interested in public or private sector careers in environmental protection.

This solicitation is to find a qualified non-profit organization to carry out this student intern program. The student interns will be considered employees of the cooperative partner rather than EPA during their training period. All student interns must be enrolled in an undergraduate or graduate program, or accepted into an undergraduate or graduate program that will commence within nine months of selection as a student intern. This partner would be responsible for locating candidate interns, selecting the interns and administering the funding to the Interns/Associates. USEPA would identify the intern/associate opportunities at EPA or EPA stakeholder facilities, provide advice to the cooperative partner in the selection of the candidate interns and provide space, technical guidance and training to the Interns/associates during their period of internship at either an EPA facility or an EPA stakeholder facility. This program will start on or about April 1, 2001 and continue for a three year period.

DATES: Applications must be received no later than 5:00 p.m., Eastern Time, February 23, 2001.

ADDRESSES: Applicants must submit one signed original plus two (2) copies of the application including all information required by the application kit. Applications must be mailed to: Linda K. Smith, EPA Intern Program, US EPA (2201A), Washington, DC 20460. If delivered by courier service, the address is: Linda K. Smith, Associate Director for Resources Management, Office of Environmental Justice, US EPA, Room 2224 Ariel Rios Building, 1200 Pennsylvania Avenue NW, Washington, DC 20004, Telephone: 202-564-2602.

FOR FURTHER INFORMATION CONTACT: Linda K. Smith, US EPA, Phone: 202-564-2602, E-mail: smith.linda@epa.gov, or by Fax: 202-501-1162.

SUPPLEMENTARY INFORMATION:

Background

The environmental protection student internship program is designed to provide undergraduate and graduate students from accredited universities and colleges with opportunities for environmental training experiences at EPA and other venues in which the student intern can receive a meaningful learning experience. The Program will be managed by the Office of Environmental Justice. EPA managers at Headquarters, Regional Offices, and Laboratories will develop and sponsor new training or research projects that will further the student interns' understanding of environmental and health protection issues and abatement techniques. The projects are sufficiently narrow in scope to allow the student to complete the project in a 3-6 month period by working full-time during the summer and/or part-time during the school year. Students selected to receive an internship are awarded a stipend based on their level of education and length of the project period.

EPA is expanding its institutional commitment to Environmental Stewardship and Health Protection. The Agency has identified several areas in which student interns would benefit by practical, on the job training experiences. These areas include but are not limited to:

• Environmental Policy, Regulation, & Law—Training in this area includes participation in the review and evaluation of existing policies and regulations, as well as the development of new policies. Training relating to compliance with policies and regulations is included.

• Environmental Management & Administration—This area focuses on providing training in how to implement and improve management goals; how to develop cooperative environmental management strategies.

• Environmental Science—This area focuses in training on field studies and laboratory research.

• Public Relations and Communications—This broad category provides the Intern with the opportunity to receive training relating to how public opinion affects environmental issues. Internet surveys, tools for presentations, creation of pamphlets for informing about environmental protection could be part of a training opportunity.

• Computer Programming and Development—The student intern would receive training relating to developing computer programs for reaching different stakeholders. A project of this type could easily be a training opportunity at a community or grassroots organization facility.

A primary objective of the EPA is to plan and support active stewardship of the environment, of the public health, and to sustain communities at a time of increased pressures on these resources and decreasing funds for programs. Part of the strategy is to transfer US EPA's technologies, techniques, and methods to the community-at-large, especially the next generation of environmental professionals is to both increase their capability and to increase their diversity. EPA's programs and activities offer unique training opportunities to develop skills that can be transferred to the non-Federal community. An effective mechanism to affect this transfer is through the establishment of a student internship program. This cooperative agreement between US EPA and the recipient will promote these objectives The statutes under which the US EPA will conduct this intern program include:

a. Clean Water Act, Section 104(b)(3): conduct and promote the coordination of research, investigations, experiments, training, demonstration, surveys, and studies relating to the causes, extent, prevention, reduction, and elimination of water pollution.

b. Safe Drinking Water Act, Sections 1442(b)(3): develop, expand, or carry out a program (that may combine training, education, and employment) for occupations relating to the public health aspects of providing safe drinking water.

c. Solid Waste Disposal Act, Section 8001(a): conduct and promote the coordination of research, investigations, experiments, training, demonstrations, surveys, public education programs, and studies relating to solid waste management and hazardous waste management.

d. Clean Air Act, Section 103(b)(3): conduct and promote the coordination and acceleration of research, investigations, experiments, demonstrations, surveys, and studies related to the causes, effects (including health and welfare effects), extent, prevention, and control of air pollution.

e. Toxic Substances Control Act, Section 10(a): conduct research, development, and monitoring activities on toxic substances.

f. Federal Insecticide, Fungicide, and Rodenticide Act, Section 20(a): conduct research on pesticides.

g. Marine Protection, Research, and Sanctuaries Act, Section 203: conduct research, investigations, experiments, training, demonstrations, surveys, and studies relating to the minimizing or ending of ocean dumping of hazardous materials and the development of alternatives to ocean dumping.

Catalog of Federal Domestic Assistance (CFDA)

This EPA Intern Program is listed in the Catalog of Federal Domestic Assistance under 66.607 Training and Fellowships for the Environmental Protection Agency.

Program Description

The objective of the program is to provide training opportunities to students interested in pursuing environmental careers. The proposed cooperative program will be administered by the Recipient in response to intern opportunities available at US EPA or other Federal or non-Federal organizations which offer opportunities for training in environmental protection.

In cooperation with EPA, the recipient will select and employ student interns to work on individual projects in response to internship opportunities established by the program offices within US EPA. Student interns are not EPA employees and the recipient, and cooperation with EPA, will develop an orientation program that will explain the intern's roles, responsibilities, and limitations. The student interns must be undergraduate students, graduate students, or college graduates who have been accepted into graduate programs and will begin their studies within 9 months of accepting an internship position. Student interns may be studying areas such as environmental science, earth science, environmental engineering, geodesy, chemistry, physics, oceanography, biology, fishery science, geography, resource economics, risk assessment, policy analysis, computer science, and law. The EPA Code of Federal Regulations, 40 CFR part 45.135(a), states that “Trainees must be citizens of the United States, its territories, or possessions, or lawfully admitted to the United States for permanent residence.”

All internship projects will be carried out under a written training plan with the technical guidance of a mentor or Technical advisor from EPA or another sponsoring organization. These projects must be designed to provide learning experiences for the Interns that will make them competitive for employment opportunities in both the public and private sector. Final details for individual training plans shall be developed by the recipient in consultation with the Project Officer or the individual Technical Advisor in accordance with the “Statement of Substantial Involvement between US EPA and the Recipient” described below.

The maximum period that a student intern may participate in the program on a full or part time basis with funding from EPA is six months. The Agency may fund one additional three month extension of an internship to enable the student to complete a project.

The recipient may establish environmental protection internship opportunities with organizations other than EPA. EPA may choose to fund and sponsor these internships or the recipient can obtain sponsorship or funding from non-EPA sources. Please note that under OMB Circular A-122 applicable to assistance agreements with non profit organizations, general fund-raising costs are not allowable.

There is not a fixed number of Internships per year under this program. The actual number will depend on opportunities and funding identified by offices within US EPA. Internships may be located at US EPA or at facilities of other organizations with missions relating to environmental protection. If interns are required to relocate to such locations for the duration of the internship, EPA will provide financial assistance to the recipient in an amount up to $500 to offset the interns relocation expenses. Interns will be provided individual project assignments for each internship.

Under this Cooperative Agreement, the Recipient shall make an effort to advertise and promote the availability of these internships to Native Americans, Hispanic, African, Asian and other minorities (including women) at all levels so as to provide opportunities for a diverse group of students to participate in this program.

Definitions

1. Student Intern—Individual trainee who will be provided with and perform internships under this cooperative agreement.

2. Project Officer—The US EPA Project Officer is that individual specifically named by US EPA to manage this program.

3. Technical Advisor—The US EPA employee responsible for providing technical guidance on the specific project(s) assigned to the Intern and for the Intern's individual development and progress. Because the student interns will be employees of the recipient organization rather than the Agency, EPA technical advisors do not provide day to day supervision of student interns.

4. Intern Opportunity/Project—An opportunity for an internship which is documented and has funds obligated for its costs. In general, these opportunities will be assignments within existing US EPA programs and ongoing projects and will be performed at the site of the project an EPA facility. In some cases, the assignment may involve an intern training at locations other than an EPA facility such as a community organization facility; a non-profit organization facility; or a local government, state government, or tribal government facility.

Maximum EPA Financial Participation in Stipends (per Week) and General Background Requirements of Internships

1. $400 ($10.00/hr) 1-4 full years of academic study.

2. $500 ($12.50/hr) Undergraduate degree and acceptance in graduate school.

3. $600 ($15.00/hr) Undergraduate Degree and superior academic standard (top 1/3, 2.9/4 GPA overall, & 3.5/4 GPA in Major) and accepted into graduate school.

4. $700 ($17.50/hr) Completed 60 hrs Graduate level or completed Masters or law degree and accepted into PhD or L.L.M. program.

Unless included in the Intern opportunity description, overtime is not anticipated. In the event that overtime is required, the duration of the internship shall be reduced or additional funds shall be obligated or Compensatory time shall be given in lieu of overtime to pay for it.

5. In the event that an Intern voluntarily terminates or is terminated by the recipient for cause (e.g. failing to carry out his or her training plan or engaging in disruptive behavior), the Recipient shall make every effort to select another intern and, if not practicable, advise EPA to de-obligate the remaining funds committed to the internship.

Funding Availability

US EPA funding for this Program will be a minimum of $500,000 from FY01 funds during the first year. Each internship or group of internships, beyond the first, shall be funded as a separate amendment to the master agreement. There is no set timetable for announcement of Internships and they may occur throughout the year.

Matching Requirements

Cost sharing is not required for the internship program.

Type of Funding Instrument

The US EPA Intern Program shall be awarded as a Cooperative Agreement since EPA anticipates that there will be substantial involvement between the EPA, the Recipient, and the Interns (after their selection).

Statement of Substantial Involvement between US EPA and the Recipient

In carrying out the work program set forth in the project description, US EPA and the Recipient agree to meet the programmatic objective of this agreement as stated.* US EPA involvement will consist of the following activities:

1. US EPA will provide descriptions of available student intern opportunities including academic background and prior work experience that would make the internship experience meaningful to the student.

2. EPA personnel will discuss internship opportunities with prospective interns and provide advice to the recipient relating to the “fit” between a prospective intern's academic background and work experience and the training available under the internship opportunity. However, EPA personnel will not select or make offers to prospective intern.

3. After considering EPA's advice, and making its own assessment of the fit between prospective interns' qualifications and interests and the internship opportunity, the Recipient is responsible for selecting the intern, making the offer of the internship, and arranging an orientation program and start date.

4. The recipient and EPA will collaboratively develop the student interns training plan. EPA will provide a technical advisor to interact with each student intern as the intern carries out his or her training plan. The technical monitor shall provide technical guidance and support to the Intern in developing the skills necessary to perform the work in the chosen environmental arena. However, EPA's technical advisor will not supervise the intern on a day to day basis. The Recipient must manage time and attendance and monitor the interns' progress towards completing his or her training plan.

5. EPA shall provide liaison to interact with the Recipient and Senior Management on the progress of meeting the programmatic objectives of this Cooperative Agreement.

*Summary Section: The programmatic objective of this intern program is to provide unique training opportunities for cooperative study, research, and development that would be of major benefit in advancing the number and diversity of environmental professionals.

Eligibility Criteria

Any non profit organization as described in OMB Circular A-122 may submit a proposal. Please note that there are restrictions on the extent to which EPA can award financial assistance to organizations described by Section 501(c)(4) of the Internal Revenue Code who engage in lobbying.

Award Period

The initial Master Agreement shall be for a period of three (3) years. US EPA shall consider continued funding for the project upon: (a) Satisfactory progress toward the stated agreement goals, and the determination by US EPA that the continuation of the program would be in the best interest of the Government; and (b) availability of funds. The awards must have scopes of work that can easily be separated into annual increments of meaningful work which represent solid accomplishments if prospective funding is not made available to the applicant. This submission in no way obligates US EPA to extend this agreement, nor is this paragraph to be interpreted as a promise that future funds will be available. Stipend levels, and benefits may be adjusted for Cost of Living Allowances for each continuation year.

Administrative Costs

Funds to support the environmental professional intern program shall be given directly to the Recipient. Administrative costs shall be negotiated as part of the Master Agreement award and shall be based on and paid on a per Internship basis. These costs may be fixed, time dependent, Intern stipend dependent, or a combination as proposed by the Recipient.

Indirect Costs

The total dollar amount of the indirect costs proposed in an application under this program must not exceed the indirect cost rate negotiated and approved by a cognizant Federal agency prior to the proposed effective date of the award.

Application Requirements

Each Prospective Recipient shall submit a package containing completed:

1. SF-424 (including SF-424A & SF-424B). (Available on the Internet at http://www.whitehouse.gov/OMB/grants/#forms).

2. A budget with necessary supporting details. This budget should be based on a hypothetical intern opportunity at a stipend level of $500 per week, with an allowance for required field trip travel of $2,000, and a relocation allowance of $500. Because it is anticipated that this agreement will be extended to include additional internships beyond the first, supporting information should be included to determine the full cost to the government of additional internships which may have any of the suggested stipend levels, have durations ranging 6 to 9 months, and be with or without relocation or travel allowances. This information should also contain details on what services and benefits are included (i.e. sick leave, tax withholding, insurance, etc.) and their estimated cost to interns; as well as, what, if any, allowances are made for vacation leave and/or sick leave. Holidays observed by the office hosting the intern will be considered paid holidays.

3. Curriculum Vitae for each individual and critical senior staff assigned to the program,

4. Copy of a current approved Negotiated Indirect Cost Rate Agreement,

5. SF-LLL “Disclosure of Lobbying Activities”

6. “Certifications Regarding Lobbying Activities”

7. EPA Form 5700-49 “Certification Regarding Debarment, Suspension, and Other Responsibility Matters”

8. A narrative description of the applicant's proposed plan for carrying out its environmental professional internship program. This narrative shall include:

(a) A description of the Intern Program, how they would implement it and conduct its operation. Alternatives and variations with regard to the timing of items 4 and 5 within the “Description of the Intended Operation of the Intern Program for each Internship” detailed above may be proposed.

(b) Proposed method of advertising for and pre-screening candidate Interns and supervising interns as they carry out their training plans.

(c) Proposed benefits offered to Interns (e.g. tax withholding, health insurance, liability insurance, workman's compensation, etc.) as employees of the applicant.

(d) Past history of the prospective Recipient in carrying out similar programs, and how carrying out the environmental professional internship program will further the applicant's mission.

(e) Ability to use the Internet for all aspects of the intern program.

9. Proof of Status For First Time Eligible Non-Profit Applicants.

10. EPA Form 5700-48 “Procurement System Certification”

11. EPA Form 4700-4 “Pre-award Compliance Review report for All Applicants * * *.”

Application Forms and Kit

The Grant Application Kit can be obtained by calling 202-564-5310. It is also available in PDF format at http://www.epa.gov/ogd/appkit.htm.

You can also visit your local public library and copy the forms from the Federal Register in which this document is published; many federal offices use the forms and have copies available. A tutorial for grant applicants is available at: http://www.epa.gov/seahome/grants/src/grant.htm where the forms can be printed.

Project Funding Priorities

Responsiveness of the application to the programmatic objectives of the Intern program as noted in the Summary section and restated in the Type of Funding Instrument section above.

Evaluation Criteria

The proposals from applicants will be evaluated and ranked on a “high, medium or low” basis. High rankings are the most desirable. These rankings will be considered by EPA management in deciding which proposal, on balance, will provide the best value to both the Government and prospective interns. The evaluation factors that will be considered include:

1. Costs for operating the proposed Intern Program.

2. The applicant's proposed approach to carrying out the program and proposed time lines for filling internships.

3. Services and benefits available to the Interns relative to their cost to EPA, the applicant and the student interns

4. Proposed method for advertising for and pre-screening candidate Interns.

5. Past history of the prospective Recipient in operating similar programs.

6. Qualifications of proposed senior staff.

Selection Procedures

Each application will receive an independent, objective review by a panel qualified to evaluate the applications submitted. The Independent Review Panel, consisting of at least three individuals in addition to the Selecting Official US EPA Federal Program Officer, will review, evaluate, and rank all applications based on the criteria stated above. The final decision on award will be based upon the panel's overall ranking of the application and a determination by the Selecting Official that the Recipient's application meets the Project Funding Priorities.

Other Requirements

Travel Expenses of selected Interns

EPA may provide additional financial support for travel and transportation for student interns assigned to EPA projects requiring field work as documented in the description of the Intern Opportunity and the Intern's training plan. The funds will be included as part of the original funding to the Recipient at the time the internship project is initiated or at a later date by way of an amendment. Student interns shall complete Recipient's travel approval form prior to each trip, complete a travel reimbursement form at the conclusion of each trip, and a travel experience report at the conclusion of each trip for the Recipient. The US EPA Technical Advisor shall sign the form to acknowledge the trip is consistent with the intern's training plan prior to any action by the Recipient. Travel advances for Interns shall be available from the Recipient as needed. All travel and transportation required for field work shall be paid by the Recipient out of funds included in the agreement.

Restrictions

This is a short term training program for students. Interns will not be used to replace US EPA employees formerly employed under the Office of Personnel Management student appointing authorities, to replace temporary or term appointments, or to replace or fill-in for full or part-time US EPA positions vacated by the Voluntary Separation Program or Reduction in Force. Participants will not be selected or used to perform personal services. The Recipient and the Agency shall avoid any actions that create the appearance that the intern is a Federal employee or is being used by EPA to obtain personal services. The relationship between the Recipient and Interns is that of Employer and Employee. The Recipient must provide a health benefits option, must deduct applicable state and federal taxes, and is responsible for payment, discipline, leave approval, termination, etc. for each Intern. Nothing in this agreement or its supplements shall be deemed to create an employer-employee relationship between the US EPA and an Intern. Former US EPA employees are not eligible for this program within two years of employment at US EPA. Former EPA employees must qualify as students to participate in the program.

(1) Federal Policies and Procedures. Recipients are subject to all Federal laws and Federal and USEPA policies, regulations, and procedures applicable to Federal financial assistance awards.

(2) Past Performance. Unsatisfactory performance under prior Federal awards will be considered in evaluating an applicant's proposal.

(3) Preaward Activities. If applicants incur any costs prior to an award being made, they do so solely at their own risk of not being reimbursed by the Government. Notwithstanding any verbal or written assurance that may have been received, there is no obligation on the part of the USEPA to cover pre-award costs except to the extent authorized at 40 CFR 30.25(f).

(4) No Obligation for Future Funding. If an application is selected for funding, the USEPA has no obligation to provide any additional future funding in connection with the award. Renewal of an award to increase funding or extend the period of performance is at the total discretion of the USEPA.

(5) Delinquent Federal Debts. No award of Federal funds shall be made to an applicant who has an outstanding delinquent Federal debt until either:

i. The delinquent account is paid in full,

ii. A negotiated repayment schedule is established and at least one payment is received, or

iii. Other arrangements satisfactory to USEPA are made.

(6) Name Check Review. All non-profit applicants are subject to a name check review process. Name checks are intended to reveal if any key individuals Interned with the applicant have been convicted of or are presently facing criminal charges such as fraud, theft, perjury, or other matters which significantly reflect on the applicant's management honesty or financial integrity. Key individuals cannot be currently suspended, debarred, or otherwise ineligible from participating in Federal financial assistance.

(7) Primary Applicant Certifications. All primary applicants must submit a completed form CD-511, “Certifications Regarding Debarment, Suspension and Other Responsibility Matters; Drug-free Workplace Requirements and Lobbying,” and the following explanations are hereby provided:

i. Nonprocurement Debarment and Suspension. Prospective participants (as defined at 15 CFR part 26, section 105) are subject to 15 CFR part 26, “Nonprocurement Debarment and Suspension” and the related section of the certification form prescribed above applies;

ii. Drug-Free Workplace. Recipients (as defined at 15 CFR part 26, section 605) are subject to 15 CFR part 26, subpart F, “Government requirements for Drug-Free Workplace (Grants)” and related section of the certification form prescribed above applies;

iii. Anti-Lobbying. Persons (as defined at 15 CFR part 26, section 105) are subject to the lobbying provisions of 31 U.S.C. 1352, “Limitations on use of appropriated funds to influence certain Federal contracting and financial transactions,” and the lobbying section of the certification form prescribed above applies to applications/bids for grants, cooperative agreements, and contracts for more than $100,000 * * *.”

iv. Anti-Lobbying Disclosures. Any applicant that has paid or will pay for lobbying using any funds must submit an SF-LLL, “Disclosure of Lobbying Activities,” as required under 15 CFR part 28, Appendix B.

(8) False Statements. A False statement on an application is grounds for denial or termination of funds and grounds for possible punishment by a fine or imprisonment as provided in 18 U.S.C. 1001.

(9) Intergovernmental Review. Applications under this program are not subject to executive Order 12372, “Intergovernmental Review of Federal Programs.”

Approved for Publication:
Dated: December 22, 2000.
Barry E. Hill,
Director, Office of Environmental Justice, U.S. Environmental Protection Agency.

[FR Doc. 01-419 Filed 1-5-01; 8:45 am]

BILLING CODE 6560-50-P